DEPARTMENT OF HEALTH AND HUMAN SERVICES

Administration for Children and Families

Proposed Information Collection Activity: Administration for Children and Families Congressionally Directed Community Projects—Universal Project Description

AGENCY: Office of Planning, Research, and Evaluation, Administration for Children and Families, U.S. Department of Health and Human Services.

ACTION: Request for public comments.

SUMMARY: The Administration for Children and Families (ACF) is requesting approval of the ACF Congressionally Directed Community Projects—Universal Project Description (CDCP-UPD). This new information collection is proposed to collect information from recipients of ACF Congressionally Directed funds. A Congressional Directive is an authorization act or appropriations act that requires ACF to make an award(s) to a named recipient(s) for a particular program, project, activity, or geographic area(s).

DATES: Comments due within 60 days of publication. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION: Description: CDCP recipients are identified annually by Congress through Appropriations for ACF. The CDCP-UPD will provide standard language and sections available for use by ACF program offices to solicit the required project description and project budget information from recipients of CDCP projects. Applications are required for CDCP as prescribed by HHS regulations 45 CFR 75.203. In addition to the information required by regulation, the CDCP-UPD will provide a selection of text options for the program offices to communicate the application requirements to the recipients, as required by 45 CFR 75.203.

The CDCP-UPD gathers information regarding the CDCP recipients' identified outcomes, project activities, timeline, organizational capacity, and budget and budget justification. The CDCP-UPD ensures sufficient information is obtained to assess risk, identify needs for technical assistance and monitoring, and address other requirements of Congress, ACF, the Department of Health and Human Services, the Office of Management and Budget, and funding and statutory regulation.

Respondents: The CDCP recipients are identified annually for funding under a Congressional Directive. In Fiscal Year 2022, there were 39 CDCP recipients identified for ACF funding. It is estimated that 200 CDCP recipients will be identified annually in future ACF appropriations.

Annual Burden Estimates
Information instrument | Annual Number of respondents (total over request period) | Annual Number of responses per respondent (total over request period) | Average burden per response (in hours) | Average annual burden (in hours)
Congressionally Directed Community Project—Uniform Project Description (CDCP-UPD) | 200 | 1 | 30 | 6,000

Estimated Total Annual Burden Hours: 6000.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Social Security Act section 1110 [42 U.S.C. 1310].

Mary B. Jones,
ACF/OPRE Certifying Officer.

[FR Doc. 2022-26304 Filed 12-1-22; 8:45 am]

BILLING CODE 4184-78-P